DEPARTMENT OF THE TREASURY

Submission for OMB Review; Comment Request

February 16, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 28, 2007 to be assured of consideration.

Internal Revenue Service (IRS)

OMB Number: 1545-1556.

Type of Review: Extension.

Title: REG-251985-96 (Final) Source of Income From Sales of Inventory Partly From Sources Within a Possession of the United States; Also, Source of Income Derived From Certain Purchases.

Form: 13614-NR.

Description: The information requested in section 1.863-3(f)(6) is necessary for the Service to audit taxpayers' return to ensure taxpayers are properly determining the source of their income.

Respondents: Businesses and other for-profit institutions.

Estimated Total Burden Hours: 500 hours.

OMB Number: 1545-2030.

Type of Review: Extension.

Title: REG-120509-06 (Temp. and NPRM), 1.882-5: Adjusted U.S. Booked Liability Method—30-Day Published LIBOR Election.

Description: The collection of information is needed to simplify administration for examiners of a binding annual election provided by the Regulations. The information will be used by taxpayers to determine the amount of excess interest expense allocable to effectively connected income under an elective allocation method in 1.882.5. The respondents are only regulated foreign banking corporations that elect to use the adjusted U.S. booked liability method for allocating interest expense to effectively connected income.

Respondents: Businesses and other for-profit institutions.

Estimated Total Burden Hours: 38 hours.

OMB Number: 1545-1981.

Title: Alternative Fuel Vehicle Refueling Property Credit.

Form: 8911.

Type of Review: Extension.

Description: IRC section 30C allows a credit for alternative fuel vehicle refueling property. Form 8911, Alternative Fuel Vehicle Refueling Property Credit, will be used by taxpayers to claim the credit.

Respondents: Businesses and other for-profit institutions, Farms.

Estimated Total Burden Hours: 2,112 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E7-3236 Filed 2-23-07; 8:45 am]

BILLING CODE 4830-01-P